DEPARTMENT OF HOMELAND SECURITY

Coast Guard

[USCG-2004-19842]

Ballast Water Management for Vessels Entering the Great Lakes That Declare No Ballast Onboard; Environmental Assessment and Finding of No Significant Impact

AGENCY: Coast Guard, DHS.

ACTION: Notice of availability.

SUMMARY: The Coast Guard announces the availability of the Final Environmental Assessment (EA) and Finding of No Significant Impact (FONSI) that evaluated the potential environmental impacts resulting from the implementation of the policy on ballast water management for vessels entering the Great Lakes declaring no ballast onboard (NOBOB). The purpose of this policy is to prevent the introductions of aquatic nonindigenous species (NIS) into the Great Lakes.

ADDRESSES: Comments and material received from the public as well as documents mentioned in this notice as being available in the docket, are part of Coast Guard docket number USCG-2004-19842 and are available for inspection or copying at the Docket Management Facility, U.S. Department of Transportation, room PL-401, 400 Seventh Street, SW., between 9 a.m. and 5 p.m., Monday through Friday, except Federal Holidays. You may also find this docket on the Internet at http://dms.dot.gov.

FOR FURTHER INFORMATION CONTACT: For information concerning this project, call Mr. Bivan Patnaik, Project Manager, Environmental Standards Division, U.S. Coast Guard, telephone 202-267-1744 or via e-mail: bpatnaik@comdt.uscg.mil. If you have any questions on viewing or submitting material to the docket, call Ms. Andrea M. Jenkins, Program Manager, Docket Operations, Department of Transportation, telephone 202-366-0271.

SUPPLEMENTARY INFORMATION: In accordance with the National Environmental Policy Act of 1969 (Section 102(2)(c)), as implemented by the Council of Environmental Quality regulations (40 CFR parts 1500-1508) and Coast Guard Policy for Considering Environmental Impacts (COMDTINST M16475.1D), the Coast Guard prepared a Final EA and FONSI for implementing the policy on best management practices for NOBOB vessels.

Response to Comments

The Coast Guard requested comments on the Draft EA when the Notice of policy; availability of Draft EA was published on August 31, 2005 (70 FR 51831). The Coast Guard received 11 comments; however, only 2 out of the 11 comments specifically addressed the Draft EA. Therefore, the Coast Guard will only respond to those comments that addressed the Draft EA.

One commenter agreed that the policy on best management practices for NOBOB vessels will have no adverse or beneficial significant impacts on the environment. The Coast Guard partially agrees with this comment. As the EA and FONSI discuss we agree that there will be no significant adverse impact; however, we do believe that beneficial impacts to the environment will occur if NOBOB vessels conduct the recommended best management practices. These practices are intended to prevent NIS from being introduced into the Great Lakes.

One commenter expressed disappointment that the Draft EA did not analyze mandatory best management practices as one of the alternatives.

The Coast Guard has been evaluating NOBOB vessels with residual water and sediments with the National Oceanic and Atmospheric Administration's (NOAA) Great Lakes Environmental Research Laboratory (GLERL), and other partners as part of the NOAA/GLERL NOBOB Research Project. Although the NOAA/GLERL NOBOB Report published in April 2005, suggests that saltwater flushing (one of the Coast Guard's recommended best management practices) would be an effective practice to protect the Great Lakes from NIS in fresh and/or brackish residual waters, the practice has never been validated for efficacy or feasibility. We are working with NOAA/GLERL and other partners to evaluate both the efficacy and feasibility of saltwater flushing. The Coast Guard is also monitoring the level of participation of vessels conducting the recommended best management practices through record checks and sampling since vessels may not always be able to conduct these practices due to vessel/crew safety concerns and other operational requirements. These evaluations will determine if further refinements to the program are necessary.

The Coast Guard is developing a ballast water discharge standard for all vessels including vessels which enter the Great Lakes because ballast water exchange and similar practices are interim measures. This standard will be more effective in preventing invasions than mandatory best management practices.

Environmental Assessment

The Final EA identified and examined those reasonable alternatives needed to effectively prevent NIS introductions into the Great Lakes via NOBOB vessels. The Final EA analyzed the no action alternative and one action alternative that could fulfill the purpose and need of establishing best management practices for NOBOB vessels to reduce NIS introductions into the Great Lakes. Specifically, the Final EA considered potential effects to the natural and human environments by incorporating environmental analyses previously conducted for establishing ballast water management regulations for U.S. waters.

Dated: January 19, 2006.
T.H. Gilmour,
Rear Admiral, U.S. Coast Guard, Assistant Commandant for Prevention.

[FR Doc. E6-1014 Filed 1-26-06; 8:45 am]

BILLING CODE 4910-15-P